DEPARTMENT OF THE INTERIOR

Bureau of Ocean Energy Management

[MMAA104000]

North American Datum of 1983 (NAD 83) Outer Continental Shelf (OCS) Provisional Official Protraction Diagram (OPDs)

AGENCY: Bureau of Ocean Energy Management (BOEM), Interior.

ACTION: Notice of Availability of OCS Provisional OPDs.

SUMMARY: Notice is hereby given that effective with this publication two NAD 83-based OCS Provisional OPDs that represent the Island of Oahu and surrounding Federal waters are now available. BOEM, in accordance with its authority and responsibility under Title 43, Code of Federal Regulations, has created provisional versions of the basic record used for the description of renewable energy, mineral, and oil and gas lease sales in the geographic areas they represent. These provisional OPDs represent the approximate locations of the Submerged Lands Act (3 nautical mile), Limit of “8(g) Zone” (6 nautical mile), and National Marine Sanctuary boundaries. The provisional OPDs are for informational purposes only and will be superseded by official versions.

OCS Provisional Official Protraction Diagrams in the Pacific Ocean, Hawaiian Islands

Description/Date

NF04-08 (Kaua'i Channel)—July 1, 2013

NF04-09 (O'ahu)—July 1, 2013

FOR FURTHER INFORMATION CONTACT: Douglas Vandegraft at (703) 787-1312 or via email at Doug.Vandegraft@boem.gov.

SUPPLEMENTARY INFORMATION: Copies of the revised OPDs are available for download in .pdf format from http://www.boem.gov/Oil-and-Gas-Energy-Program/Mapping-and-Data/Pacific.aspx.

Dated: June 11, 2013.
Tommy P. Beaudreau,
Director, Bureau of Ocean Energy Management.

[FR Doc. 2013-14429 Filed 6-17-13; 8:45 am]

BILLING CODE 4310-MR-P